DEPARTMENT OF ENERGY

Federal Energy Regulatory Commission

[Project No. 2509-051]

PE Hydro Generation, LLC; Notice of Application Ready for Environmental Analysis and Soliciting Comments, Recommendations, Terms and Conditions, and Prescriptions

Take notice that the following hydroelectric application has been filed with the Commission and is available for public inspection.

a. Type of Application: Subsequent Minor License.

b. Project No.: 2509-051.

c. Date filed: January 3, 2022.

d. Applicant: PE Hydro Generation, LLC.

e. Name of Project: Shenandoah Hydroelectric Project (P-2509-051).

f. Location: The project is located on the South Fork of the Shenandoah River near the Town of Shenandoah in Page and Rockingham, Counties, Virginia. The project does not occupy any federal land.

g. Filed Pursuant to: Federal Power Act, 16 U.S.C. 791(a)-825(r).

h. Applicant Contact: Ms. Jody Smet, Vice President, Regulatory Affairs, PE Hydro Generation, LLC, 7315 Wisconsin Ave., Suite 1100W, Bethesda, MD 20814; Phone at (804) 382-1764 or email at jody.smet@eaglecreekre.com.

i. FERC Contact: Kristine Sillett at (202) 502-6575; or email at kristine.sillett@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, please send a paper copy via U. S. Postal Service to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Shenandoah Project (P-2509-051).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application has been accepted and is ready for environmental analysis at this time.

l. The Shenandoah Project consists of: (1) a 15-foot-high, 495-foot-long reinforced concrete dam; (2) a 30-acre impoundment with a storage capacity of 190 acre feet; (3) a 91-foot-long, 38-foot-wide powerhouse adjacent to the north end of the dam, with four generating units having a total installed capacity of 862 kW; (4) 180-foot-long, 2.4-kilovolt (kV) project generator lines; (5) a substation containing a 3-phase, 2.4/34.5-kV transformer where interconnection with the grid occurs and; (6) other appurtenances.

The project operates in a run-of-river mode with a minimum flow of 44 cubic feet per second. The project had an average annual generation of 2,037 megawatt-hours between 2011 and 2016.

m. This filing may be viewed on the Commission's website at http://www.ferc.gov using the “eLibrary” link. Enter the docket number excluding the last three digits in the docket number field, to access the document. For assistance, contact FERC Online Support.

All filings must (1) bear in all capital letters the title “COMMENTS,” “REPLY COMMENTS,” “RECOMMENDATIONS,” “TERMS AND CONDITIONS,” or “PRESCRIPTIONS;” (2) set forth in the heading the name of the applicants and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicants. Each filing must be accompanied by proof of service on all persons listed on the service list prepared by the Commission in this proceeding in accordance with 18 CFR 4.34(b) and 385.2010.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595, or at OPP@ferc.gov.

You may also register online at http://www.ferc.gov/docs-filing/esubscription.asp to be notified via email of new filings and issuances related to this or other pending projects. For assistance, contact FERC Online Support.

n. The applicant must file no later than 60 days from the issuance date of this notice: (1) copy of the water quality certification; (2) a copy of the request for certification, including proof of the date on which the certifying agency received the request; or (3) evidence of a waiver of water quality certification.

o. Procedural schedule: The application will be processed according to the following schedule. Revisions to the schedule will be made as appropriate.

Milestones | Target date
Deadline for filing comments, recommendations, terms and conditions, and prescriptions | December 17, 2024.
Deadline for filing reply comments | January 31, 2025.

p. Final amendments to the application must be filed with the Commission no later than 30 days from the issuance date of this notice.

Dated: October 18, 2024.
Debbie-Anne A. Reese,
Secretary.

[FR Doc. 2024-24806 Filed 10-24-24; 8:45 am]

BILLING CODE 6717-01-P